DEPARTMENT OF COMMERCE

National Oceanic and Atmospheric Administration

RIN: 0648-XR15

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (MAFMC) Highly Migratory Species Committee and its Spiny Dogfish Committee will hold a public meeting.

DATES: The meeting will be held on Monday, September 21, 2009, from 10 a.m. to 4 p.m.

ADDRESSES: The meeting will be held at the Hilton Philadelphia Airport Hotel, 4509 Island Avenue, Philadelphia, PA; telephone: (215) 937-4535.

Council address: Mid-Atlantic Fishery Management Council, 300 S. New Street, Room 2115, Dover, DE 19904; telephone: (302) 674-2331.

FOR FURTHER INFORMATION CONTACT: Daniel T. Furlong, Executive Director, Mid-Atlantic Fishery Management Council, 300 S. New Street, Room 2115, Dover, DE 19904; telephone: (302) 674-2331, extension 19.

SUPPLEMENTARY INFORMATION: The purpose of this meeting is to develop and finalize comments on Draft Amendment 3 to the National Marine Fisheries Service's Consolidated Highly Migratory Species Fishery Management Plan and its proposed rule for management of Atlantic Shark fisheries. The Committees expect to comment on the reported overfishing that is being experienced by the blacknose sharks and shortfin mako sharks, and the proposed management measures required to end this overfishing. Comments will also be developed on the inclusion of smooth dogfish in the Fishery Management Plan.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to M. Jan Bryan at the Mid-Atlantic Council Office, (302) 674-2331 extension 18, at least 5 days prior to the meeting date.

Dated: August 24, 2009.
Tracey L. Thompson,
Acting Director, Office of Sustainable Fisheries, National Marine Fisheries Service.

[FR Doc. E9-20687 Filed 8-26-09; 8:45 am]

BILLING CODE 3510-22-S